DEPARTMENT OF ENERGY

Federal Energy Regulatory Commission

[Docket No. RP01-76-001]

Northern Natural Gas Company; Notice of Proposed Changes in FERC Gas Tariff

December 7, 2000.

Take notice that on November 30, 2000, Northern Natural Gas Company (Northern), tendered for filing in its FERC Gas Tariff, Fifth Revised Volume No. 1, the following tariff sheet proposed to be effective December 1, 2000:

2 Revised Sheet No. 56

Northern states that the reason for this filing is to file Tariff Sheet No. 56, which sets forth Rate Schedule VFT base rates, to reflect the impact of the SLA rate adjustment on Northern's VFT rates. Tariff Sheet No. 56 was not included in the November 1 tariff filing in this proceeding because the Commission did not approve the VFT Rate Schedule until November 8, 2000.

Northern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210. of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31840 Filed 12-13-00; 8:45 am]

BILLING CODE 6717-01-M